DEPARTMENT OF COMMERCE

[Docket No. 150806684-5684-01]

Privacy Act of 1974, Altered System of Records

AGENCY: U.S. Census Bureau, U.S. Department of Commerce.

ACTION: Notice of amendment, Privacy Act System of Records, COMMERCE/CENSUS-9, Longitudinal Employer-Household Dynamics System.

SUMMARY: In accordance with the Privacy Act of 1974, as amended, 5 U.S.C. 552A(e)(4) and (11); and Office of Management and Budget (OMB) Circular A-130, Appendix I, “Federal Agency Responsibilities for Maintaining Records About Individuals,” the Department of Commerce is issuing this notice to amend the system of records under, COMMERCE/CENSUS-9, Longitudinal Employer-Household Dynamics System, to update the categories of records, the authorities for maintenance of the system, the routine uses, the system manager(s) and address, and the policies and practices for storing, retaining, disposing, and safeguarding of the records, and to add three new sections to the system addressing the notification procedure, record access procedures, and contesting procedures. The purpose of Longitudinal Employer-Household Dynamics system of records is to enable the Census Bureau to undertake studies intended to improve the quality of its core demographic and economic censuses and surveys and to conduct policy-relevant research. By using administrative record data from other agencies, the Census Bureau will be able to improve the quality and usefulness of its data, while reducing costs and respondent burden. We invite public comment on the system amendment announced in this publication.

DATES: To be considered, written comments on the proposed amendments must be submitted on or before October 19, 2015. Unless comments are received, the amended system of records will become effective as proposed on the date of publication of a subsequent notice in the Federal Register.

ADDRESSES: Please address comments to: Byron Crenshaw, Privacy Compliance Branch, Room—8H021, U.S. Census Bureau, Washington, DC 20233-3700.

FOR FURTHER INFORMATION CONTACT: Chief, Privacy Compliance Branch, Room—8H021, U.S. Census Bureau, Washington, DC 20233-3700.

SUPPLEMENTARY INFORMATION: The Department of Commerce proposes to amend the system of records under, COMMERCE/CENSUS-9, Longitudinal Employer-Household Dynamics System. The purpose of Longitudinal Employer-Household Dynamics system of records is to enable the Census Bureau to undertake studies intended to improve the quality of its core demographic and economic censuses and surveys and to conduct policy-relevant research. By using administrative record data from other agencies, the Census Bureau will be able to improve the quality and usefulness of its data, while reducing costs and respondent burden.

This amendment makes the following seven changes to the information provided under the system. The first change updates the categories of records in the system to provide additional information and details surrounding the records including the use of administrative records. The second change updates the authorities for maintenance of the system by specifying which sections of Title 13 of the United States Code (U.S.C.) applies to this system of records. The third change updates the routine uses of records maintained by the system of records to indicate that the records in this system of records are solely for statistically purposes. The fourth change clarifies the storage of records including those obtained from source datasets. The fifth change updates the system manager and address to reflect that the system of records is being maintained in another program area. The sixth change updates the policies and practices for storing, retaining, disposing, and safeguarding of the records. The last change adds three new sections that address the notification procedure, record access procedures, and contesting procedures, to this system; these section were not included in the last publication of this notice in the Federal Register on May 10, 2002 (67 FR 31766). The entire resulting system of records, as amended, appears below.

COMMERCE/CENSUS-9

SYSTEM NAME:

COMMERCE/CENSUS-9, Longitudinal Employer-Household Dynamics System.

SECURITY CLASSIFICATION:

None.

SYSTEM LOCATION:

Bowie Computer Center, U.S. Census Bureau, 17101 Melford Boulevard, Bowie, MD 20715.

CATEGORIES OF INDIVIDUALS COVERED BY THE SYSTEM:

The population of the United States. In order to approximate coverage of the entire U.S. population, the U.S. Census Bureau (Census Bureau) will combine administrative record files from the Internal Revenue Service, the Social Security Administration, selected Census Bureau economic and demographic censuses and surveys, and comparable data from selected state agencies.

CATAGORIES OF RECORDS IN THE SYSTEM:

Records in this system of records consist of working statistical files (i.e., those files being analyzed to produce survey results), survey data files (i.e., those files containing answers directly from the respondent), and/or data contact files (i.e., those files used for contacting respondents). Some records in this system of records may be obtained from datasets maintained by the COMMERCE/CENSUS-8, Statistical Administrative Records System where direct identifiers have been replaced with a unique nonidentifying code (called the Protected Identification Key (PIK)) prior to delivery to this system of records, and, therefore are not on the working statistical files. These categories of records are maintained on unique data sets that are extracted or combined on an as needed basis using the unique non-identifying codes but with the original identifiers removed. Additionally, some records from this system of records may be obtained from the Internal Revenue Service, the Social Security Administration, selected Census Bureau economic and demographic censuses and surveys, and comparable data from selected state agencies. Records in this system of records may contain information such as: Demographic Information—e.g., gender, race, ethnicity, education, marital status, tribal affiliation, veterans status; Geographic Information—e.g., address; Economic Information—e.g., income, job information, total assets; Business information—e.g., business name, revenues, number of employees, and industry codes in support of economic statistical products; Respondent contact information—e.g., name, address, telephone number, age, and sex in support of survey and census data collection efforts; and Processing Information—e.g., processing codes and quality indicators. See the COMMERCE/CENSUS-8, Statistical Administrative Records System SORN for more information.

AUTHORITY FOR MAINTENANCE OF THE SYSTEM:

13 U.S.C. 6 and 9.

PURPOSES:

The purpose of Longitudinal Employer-Household Dynamics system of records is to enable the Census Bureau to undertake studies intended to improve the quality of its core demographic and economic censuses and surveys and to conduct policy-relevant research. By using administrative record data from other agencies, the Census Bureau will be able to improve the quality and usefulness of its data, while reducing costs and respondent burden.

ROUTINE USES OF RECORDS MAINTAINED IN THE SYSTEM, INCLUDING CATEGORIES OF USERS AND PURPOSES OF SUCH USES:

A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

DISCLOSURE TO CONSUMER REPORTING AGENCIES:

None.

POLICIES AND PRACTICES FOR STORING, RETRIEVING, ACCESSING, RETAINING, AND DISPOSING OF RECORDS IN THE SYSTEM:

STORAGE:

Records will be stored in a secure computerized system and on magnetic tape; output data will be either electronic or paper copy. Paper copies or magnetic media will be stored in a secure area within a locked drawer or cabinet. Source data sets containing personal identifiers will be maintained in a secure restricted-access environment.

RETRIEVABILITY:

Records are maintained within a secure, restricted access environment where direct identifiers have been deleted and replaced by unique serial identification numbers (PIK). The records can be retrieved by the PIK by only a limited number of persons sworn to uphold the confidentiality of Census Bureau data and who have a need to know. The purpose of these identifiers is not to facilitate retrieval of information concerning specific individuals, but only to develop matched data sets for subsequent statistical extracts.

SAFEGUARDS:

The Census Bureau is committed to respecting respondent privacy and protecting confidentiality. Through the Data Stewardship Program, we have implemented management, operational, and technical controls and practices to ensure high-level data protection to respondents of our census and surveys. (1) The Census Bureau unauthorized browsing policy protects respondent information from casual or inappropriate use by any person with access to data protected by Title 13 of the United States Code (U.S.C.). (2) All employees permitted to access the system are subject to the restrictions, penalties, and prohibitions of 13 U.S.C. 9 and 214 as modified by 18 U.S.C. 3551, et seq., the Privacy Act of 1974 (5 U.S.C. 552a(b)(4)); 26 U.S.C. 7213, 7213A, and 7431; and 42 U.S.C. 1306, as well as any additional restrictions imposed by statutory authority of a sponsor. (3) All Census Bureau employees and persons with special sworn status will be regularly advised of regulations issued pursuant to Title 13 U.S.C. governing the confidentiality of the data, and will be required to complete an annual Title 13 awareness program; and those who have access to Federal Tax Information data will be regularly advised of regulations issued pursuant to Title 26 U.S.C. governing the confidentiality of the data, and will be required to complete an annual Title 26 awareness program. (4) All computer systems that maintain sensitive information are in compliance with the Federal Information Security Management Act, which includes auditing and controls over access to restricted data. (5) The use of unsecured telecommunications to transmit individually identifiable information is prohibited. (6) Paper copies that contain sensitive information are stored in secure facilities in a locked drawer or file cabinet behind a locked door. (7) Additional data files containing direct identifiers will be maintained solely for the purpose of data collection activities, such as respondent contact and preloading an instrument for a continued interview, and will not be transferred to, or maintained on, working statistical files. (8) While the original data are housed at the Census Bureau they are afforded the same protections as data held confidential under 13 U.S.C. 9.

RETENTION AND DISPOSAL:

Records are retained in accordance with the General Records Schedule and Census Bureau's records control schedules that are approved by the National Archives and Records Administration. Records are retained in accordance with agreements developed with sponsoring agencies or source entity. Federal tax information administrative record data will be retained and disposed of in accordance with Publication 1075, Tax Information Security Guidelines for Federal, State, and Local Agencies and Entities. The Census Bureau issues an Annual Safeguard Activity Report that includes information on the retention and disposal of federal administrative record source data. Due to IRS regulation, Title 26 data cannot be transferred to the National Archive and Records Administration (NARA). Permanent data will be archived at the Census Bureau. Generally, records are retained for less than 10 years, unless a longer period required by the survey sponsor is necessary for statistical purposes or for permanent archival retention.

SYSTEM MANGER(S) AND ADDRESS:

Associate Director for Research and Methodology, U.S. Census Bureau, 4600 Silver Hill Road, Washington, DC 20233.

Custodian:

Director, Longitudinal Employer-Household Dynamics Program, Center for Economic Studies, Research and Methodology Directorate, U.S. Census Bureau, 4600 Silver Hill Road, Washington, DC 20233.

NOTIFICATION PROCEDURE:

None.

RECORD ACCESS PROCEDURES:

None.

CONTESTNG RECORD PROCEDURES:

None.

RECORD SOURCE CATEGORIES:

The Internal Revenue Service, the Social Security Administration, selected Census Bureau economic and demographic censuses and surveys, and comparable data from selected State Employment Security Agencies.

EXEMPTIONS CLAIMED FOR THE SYSTEM:

Pursuant to 5 U.S.C. 552 a(k)(4), this system of records is exempted from the notification, access, and contest requirements of the agency procedures (under 5 U.S.C. Section 552a(c)(3), (d), (e)(1), (e)(4)(G), (H), and (I), and (f)). This exemption is applicable as the data are maintained by the Census Bureau and required by Title 13 to be used solely as statistical records and are not used in whole or in part in making any determination about an identifiable individual or establishment. This exemption is made in accordance with the Department's rules, which appear in 15 CFR part 4 Subpart B, and in accordance with agency rules published in this Federal Register notice.

Dated: September 9, 2015.
Michael J. Toland,
Department of Commerce, Acting Freedom of Information/Privacy Act Officer.

[FR Doc. 2015-23135 Filed 9-16-15; 8:45 am]

BILLING CODE 3510-07-P